DEPARTMENT OF LABOR

Employment and Training Administration

[TA-W-58,984]

Independent Steel Castings Company, New Buffalo, MI; Dismissal of Application for Reconsideration

Pursuant to 29 CFR 90.18(c) an application for administrative reconsideration was filed with the Director of the Division of Trade Adjustment Assistance for workers at Independent Steel Castings Company, New Buffalo, Michigan. The application did not contain new information supporting a conclusion that the determination was erroneous, and also did not provide a justification for reconsideration of the determination that was based on either mistaken facts or a misinterpretation of facts or of the law. Therefore, dismissal of the application was issued.

TA-W-58,984; Independent Steel Castings Company, New Buffalo, Michigan (July 31, 2006).

Signed at Washington, DC, this 2nd day of August, 2006.
Richard Church,
Acting Director, Division of Trade Adjustment Assistance.

[FR Doc. E6-13091 Filed 8-9-06; 8:45 am]

BILLING CODE 4510-30-P